DEPARTMENT OF LABOR

Employment and Training Administration

[TA-W-61,492]

Woodward Controls, Inc., Solenoid Dept. 14520, Including On-Site Leased Workers From Adecco; Niles, IL; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on June 4, 2007, applicable to workers of Woodward Controls, Inc., Solenoid Dept. 14520, Niles, Illinois. The notice was published in the Federal Register on June 22, 2007 (72 FR 34482).

At the request of the State agency, the Department reviewed the certification for workers of the subject firm. The workers are engaged in the production of solenoids.

New information shows that leased workers of Adecco were employed on-site at the Niles, Illinois location of Woodward Controls, Inc., Solenoid Dept. 14520. The Department has determined that these workers were sufficiently under the control of the subject firm to be considered leased workers.

Based on these findings, the Department is amending this certification to include leased workers of Adecco working on-site at the Niles, Illinois location of the subject firm.

The intent of the Department's certification is to include all workers employed at Woodward Controls, Inc., Solenoid Dept. 14520, Niles, Illinois, who were adversely affected by a shift in production of solenoids to Suzhou, China.

The amended notice applicable to TA-W-61,492 is hereby issued as follows:

“All workers of Woodward Controls, Inc., Solenoid Dept. 14520, including on-site leased workers from Adecco, Niles, Illinois, who became totally or partially separated from employment on or after May 9, 2006, through June 4, 2009, are eligible to apply for adjustment assistance under section 223 of the Trade Act of 1974, and are also eligible to apply for alternative trade adjustment assistance under Section 246 of the Trade Act of 1974.”

Signed at Washington, DC, this 20th day of March 2008.
Richard Church,
Certifying Officer, Division of Trade Adjustment Assistance.

[FR Doc. E8-6113 Filed 3-25-08; 8:45 am]

BILLING CODE 4510-FN-P